INTERNATIONAL TRADE COMMISSION

[USITC SE-19-027]

Sunshine Act Meetings

Agency Holding the Meeting: United States International Trade Commission.

TIME AND DATE: July 19, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-626 and 731-TA-1452-1454 (Preliminary) (Certain Collated Steel Staples from China, Korea, and Taiwan). The Commission is currently scheduled to complete and file its determinations on July 22, 2019; views of the Commission are currently scheduled to be completed and filed on July 29, 2019.

5. Outstanding action jackets: None.

In accordance with Commission policy, subject matter listed above, not disposed of at the scheduled meeting, may be carried over to the agenda of the following meeting.

By order of the Commission.
Issued: July 9, 2019.
William Bishop,
Supervisory Hearings and Information Officer.

[FR Doc. 2019-14936 Filed 7-10-19; 11:15 am]

BILLING CODE 7020-02-P